DEPARTMENT OF HEALTH AND HUMAN SERVICES

Health Resources and Services Administration

Statement of Organization, Functions and Delegations of Authority

This notice amends Part R of the Statement of Organization, Functions and Delegations of Authority of the Department of Health and Human Services (DHHS), Health Resources and Services Administration (HRSA) (60 FR 56605, as amended November 6, 1995; as last amended at 68 FR 8515-8517, February 21, 2003). This notice is to announce the re-titling of the Office of Special Programs to the Special Programs Bureau and to amend the functional statement to include functions relating to the National Hospital Bioterrorism Preparedness Program, the Smallpox Emergency Personnel Protection Act Program and the Trauma-Emergency Medical Services Systems Program. Specifically, this notice establishes the Division of Health Care Emergency Preparedness (RR5) and the Smallpox Vaccine Injury Compensation Program Office (RR6) in the newly titled Special Programs Bureau (RR) as follows:

Special Programs Bureau (RR)

Provides the overall leadership and direction for the procurement, allocation, and transplantation of human organs and bone marrow; programmatic, financial and architectural/engineering support for construction/renovation programs; operation of the Department's Vaccine Injury Compensation Program and the State Planning Grants Program. Specifically: (1) Administers the Organ Procurement and Transplantation Network and the Scientific Registry of Transplant Recipients to assure compliance with Federal regulations and policies; (2) administers the National Marrow Donor Program in matching volunteer unrelated marrow donors for transplants and studying the effectiveness of unrelated marrow donors for transplants and related treatment; (3) develops and maintains a national program of grants and contracts to organ procurement organizations and other entities to increase the availability of various organs to transplant candidates; (4) manages the national program for compliance with the Hill-Burton uncompensated care requirement and other assurances; (5) directs and administers the Section 242 hospital mortgage insurance program (through inter-agency agreement with HUD) and HHS direct and guaranteed construction loan repayment program; (6) directs and administers an earmarked grant program for the construction/renovation/equipping of health care and other facilities; (7) directs and administers the National Vaccine Injury Compensation Program; (8) directs and administers the Smallpox Emergency Personnel Protection Act Program; (9) directs and administers the State Planning Grants Program; (10) directs and administers the National Hospital Bioterrorism Preparedness Program; and (11) directs and administers the Trauma-Emergency Medical Services Systems Program.

Division of Health Care Emergency Preparedness (RR5)

The Division of Health Care Emergency Preparedness (DHCEP) facilitates the development of State, territorial and municipal terrorism preparedness programs under grants and/or cooperative agreements to improve the Nation's health care systems to respond to any terrorism or other public health emergency event. Specifically, the Division, together with other components of the Agency; (1) serves as the national focus for leadership in and coordination of Federal, State, local and non-governmental efforts to define the readiness needs for any terrorism or other public health emergency event and to assist in the development of programs that address the problems; (2) analyzes or coordinates analysis of regional or national issues and problems and recommends responses to those problems through research, training, or other actions, as indicated; (3) develops, interprets, and disseminates policies, regulations, standards, guidelines, new knowledge, and program information for the various programs and services relevant to terrorism and emergency preparedness; (4) provides technical assistance and professional consultation to field and headquarters staffs, to State and local health personnel, to other Federal agencies, and to voluntary and professional organizations on all aspects of terrorism preparedness planning efforts; (5) establishes and maintains cooperative working relationships with voluntary, professional, and other relevant entities and serves as a focal point for communications to improve terrorism preparedness; (6) coordinates within this Agency and with other Federal program efforts to extend and improve comprehensive, coordinated services and promote integrated, state-based systems of care for this program; (7) administers a program of cooperative agreements and contracts to provide comprehensive approaches to improve terrorism preparedness; (8) works collaboratively with the Centers for Disease Control and Prevention and the Department's Office of the Assistant Secretary for Public Health Emergency Preparedness in administering the National Bioterrorism Hospital Preparedness Program. Further, HRSA has identified key stakeholders in other Federal agencies, including the Department of Defense and Homeland Security as well as key national professional organizations: (9) administers the Trauma-Emergency Medical Services Systems Program; (10) promotes coordination of terrorism preparedness under the Public Health Security and Bioterrorism Preparedness and Response Act of 2002 (Section 319 of the Public Health Service Act, 42 U.S.C. 201 et seq.) while supporting activities related to countering potential terrorist threats to civilian populations; (11) administers the Trauma-Emergency Medical Services Systems Program within the authority of Title XII of the PHS Act and provides leadership to facilitate the development of effective, comprehensive and inclusive statewide trauma systems. The program promotes trauma systems that are prepared and are responsive to emergency and disaster situations, are coordinated with State Emergency Management and disaster planning efforts. The Trauma-EMS Systems Program works to accomplish these goals by providing national leadership, performing nation system assessments, strategic planning for priority initiatives, awarding grants to support State infrastructure development, supporting the development of best practices and models for State trauma systems planning and evaluation, and coordinating related Federal activities.

Smallpox Vaccine Injury Compensation Program Office (RR6)

The Smallpox Vaccine Injury Compensation Program Office (SVICPO) administers all statutory authorities related to the operation of the Smallpox Emergency Personnel Protection Act (SEPPA). Specifically the SVICPO: (1) Evaluates petitions for compensation filed under the SEPPA through medical review and assessment of compensability for all completed claims; (2) processes awards for compensation made under the SEPPA; (3) promulgates regulations to revise the Smallpox Vaccine Injury Table; (4) develops and maintains all automated information systems necessary for program implementation; (5) provides and disseminates program information; and, (6) maintains a working relationship with other Federal and private sector partners in the administration and operation of the SEPPA.

Delegation of Authority

All delegations and redelegations of authorities to officers and employees of the Health Resources and Services Administration which were in effect immediately prior to the effective date of this action will be continued in effect in them or their successors, pending further redelegation, provided they are consistent with this action.

This document is effective upon the date of signature.

Dated: November 4, 2003.
Elizabeth M. Duke,
Administrator.

[FR Doc. 03-28374 Filed 11-12-03; 8:45 am]

BILLING CODE 4165-15-P